DEPARTMENT OF HOMELAND SECURITY

Coast Guard

[Docket No. USCG-2008-0885]

Public Meeting on Amendments to the International Mobile Satellite Organization (IMSO) Convention

AGENCY: Coast Guard, DHS.

ACTION: Notice of meeting.

SUMMARY: The U.S. Coast Guard (USCG) will hold a public meeting on issues related to proposed amendments to the Convention of the International Mobile Satellite Organization (IMSO). Background documentation may be found on the Department of State's Web site: http://www.state.gov/e/eeb/cip/imso/.

DATES: The meeting will be held on Thursday, September 4, 2008 from 10 a.m. to 12 p.m.

ADDRESSES: The meeting will be held at Coast Guard Headquarters, 2100 Second Street, SW., Washington, DC. Room 6103.

FOR FURTHER INFORMATION CONTACT: Lieutenant Commander Jason Smith at (202) 372-1376 or by e-mail to jason.e.smith2@uscg.mil or fax to (202) 372-1925.

SUPPLEMENTARY INFORMATION: This public meeting will discuss proposed Amendments to the International Mobile Satellite Organization (IMSO) Convention to Improve Governance and Transparency of IMSO, to provide IMSO with the necessary legal authority to perform its role in the Congressionally-mandated Long Range Identification and Tracking of Ships (LRIT) system and to provisionally apply those amendments in advance of their formal entry into force.

The amendments are intended to improve the governance and transparency of IMSO oversight and responsibilities that may affect U.S. and non-U.S. mobile satellite services providers. The IMSO is convening its biennial Assembly of Parties meeting September 29-October 3, 2008, in Malta, during which the 92 member governments (Parties) will have the opportunity to consider and act on U.S. proposals (1) to amend the intergovernmental IMSO Convention to improve the governance and transparency of (i) IMSO's performance of its role in oversight of providers for the Global Maritime Distress and Safety System (GMDSS) and (ii) IMSO's performance of its role as Coordinator of Long Range Identification and Tracking of ships (LRIT) for the International Maritime Organization's Maritime Safety Committee (IMO MSC); and (2) to consider whether to provisionally apply those amendments upon their adoption by the IMSO Assembly, pending their formal entry into force.

Currently, the IMSO's authority for oversight of GMDSS services applies exclusively to Inmarsat PLC. In September 2006, the IMSO Assembly adopted amendments to the IMSO Convention that were intended to extend IMSO's GMDSS oversight to include all mobile satellite service providers, not just Inmarsat PLC. Additionally, in the context of work that has been ongoing in the IMO, the IMSO Assembly of Parties at the same meeting adopted an amendment to the IMSO Convention that purports to authorize IMSO to perform certain review and auditing functions for a new vessel “LRIT” system being developed for maritime security. The United States, along with other Parties, objected to these amendments because they did not contain sufficient elements of transparency for IMSO's governance and do not provide an adequate legal foundation for IMSO to undertake functions as LRIT Coordinator. Further, at an extraordinary Assembly of Parties meeting in March 2007, a majority of Parties attending the Assembly decided to provisionally apply them, again over the United States' objection. In the meantime, the Congress has mandated that the Department of Homeland Security develop and implement, consistent with international treaties, conventions, and agreements to which the United States is a party, an LRIT system for all vessels equipped with GMDSS or equivalent technology. See 46 U.S.C. 70115. In a related development, over United States' objection, the IMO's Maritime Safety Committee (MSC) decided to recommend, and the IMO Assembly adopted, a resolution mandating that new satellite providers admitted to the GMDSS by the MSC must be overseen by IMSO. See IMO Res. A.1001(25), which revoked and replaced IMO Res. A.888(21). Because of these latter developments, particularly the adoption by the IMO of Res. A.1001, and in order to put the IMSO on a sound legal foundation that will provide sufficient governance and transparency principles for IMSO's operations in these two new functions, the United States is planning to propose and negotiate a draft set of amendments to the IMSO Convention at the upcoming Assembly of Parties that will accomplish these purposes. The public meeting is intended to solicit public comment on that approach. Public comment will also be solicited on provisional application of those amendments. If provisional application is approved, the Parties would apply those amendments in advance of their formal entry into force under the terms of the IMSO Convention. Formal entry into force under the IMSO Convention requires deposit of an instrument of acceptance with the depositary by 2/3 of the IMSO Parties at the time of adoption. As such, it is not likely to occur for a lengthy period of time. The public meeting will also address other issues that are likely to come before the IMSO Assembly of Parties meeting, including, inter alia, a draft reference Public Services Agreement that guides the terms and conditions of the contractual agreement that satellite service providers would be required to sign before being allowed to provide services for the GMDSS. The Public Services Agreement would require the payment of new fees to the IMSO. Public views and advice are being sought well in advance of the IMSO Assembly.

The proposed amendments and other background information relating to this meeting are available at the following Department of State Web site: http://www.state.gov/e/eeb/cip/imso/.

Persons planning to attend this meeting should send their name and nationality by e-mail to jason.e.smith2@uscg.mil or fax to (202) 372-1925 not later than 72 hours before the meeting. Please note that due to security considerations, two valid, government issued photo identifications must be presented to gain entrance to the Headquarters building. The Headquarters building is accessible by taxi and privately owned conveyance (public transportation is not generally available). However, parking in the vicinity of the building is extremely limited.

Members of the public are encouraged to participate and join in discussions, subject to the discretion of the moderator. Persons wishing to make formal presentations should provide advance notice to Lieutenant Commander Jason Smith.

Information on Services for Individuals with Disabilities

For information on facilities or services for individuals with disabilities or to request special assistance at the meeting, contact Lieutenant Commander Jason Smith at (202) 372-1376 or by e-mail at jason.e.smith2@uscg.mil as soon as possible.

Dated: August 21, 2008.
William D. Baumgartner,
Rear Admiral, U.S. Coast Guard, Judge Advocate General.

[FR Doc. E8-19711 Filed 8-21-08; 11:15 am]

BILLING CODE 4910-15-P